DEPARTMENT OF COMMERCE

National Oceanic and Atmospheric Administration

50 CFR Part 622

[Docket No. 1206013412-2517-02; RTID 0648-XD526]

Fisheries of the Caribbean, Gulf of Mexico, and South Atlantic; 2024 Commercial Accountability Measure for Gulf of Mexico Greater Amberjack

AGENCY: National Marine Fisheries Service (NMFS), National Oceanic and Atmospheric Administration (NOAA), Commerce.

ACTION: Temporary rule; commercial accountability measure.

SUMMARY: NMFS implements an accountability measure (AM) for commercial greater amberjack in the Gulf of Mexico (Gulf) exclusive economic zone (EEZ) reef fish fishery for the 2024 fishing year through this temporary rule. NMFS has determined that Gulf greater amberjack landings in 2023 exceeded the commercial annual catch limit (ACL). Therefore, NMFS reduces both the commercial ACL and commercial annual catch target (ACT) for greater amberjack in the Gulf EEZ during the 2024 fishing year. This commercial ACL and ACT reduction is necessary to protect the Gulf greater amberjack resource.

DATES: This rule is effective 12:01 a.m., local time, January 1, 2024, until 12:01 a.m., local time, January 1, 2025.

FOR FURTHER INFORMATION CONTACT: Kelli O'Donnell, NMFS Southeast Regional Office, telephone: 727-824-5305, or email: Kelli.ODonnell@noaa.gov.

SUPPLEMENTARY INFORMATION: NMFS manages the reef fish fishery of the Gulf, which includes greater amberjack, under the Fishery Management Plan for the Reef Fish Resources of the Gulf (FMP). The Gulf of Mexico Fishery Management Council (Council) prepared the FMP and NMFS approved and implements the FMP under the authority of the Magnuson-Stevens Fishery Conservation and Management Act (Magnuson-Stevens Act) by regulations at 50 CFR part 622.

All greater amberjack weights described in this temporary rule are in round weight.

The 2024 commercial ACL for Gulf greater amberjack is 101,000 lb (45,813 kg), as specified in 50 CFR 622.41(a)(1)(iii). The 2024 commercial quota (equivalent to the commercial ACT) is 93,930 lb (42,606 kg), as specified in 50 CFR 622.39(a)(1)(v). However, NMFS has determined that in 2023, the commercial harvest of greater amberjack exceeded the 2023 commercial ACL of 101,000 lb (45,813 kg) by 35,280 lb (16,003 kg). As described in 50 CFR 622.41(a)(1)(ii), NMFS is required to reduce both the commercial ACL and the commercial ACT for greater amberjack in the year following an overage of the commercial ACL, by the amount of any commercial ACL overage. Consistent with the commercial AM, for the 2024 fishing year, NMFS reduces both the commercial ACL and the commercial ACT to 65,720 lb (29,810 kg) and 58,650 lb (26,603 kg), respectively.

Classification

NMFS issues this action pursuant to section 305(d) of the Magnuson-Stevens Act. This action is required by 50 CFR 622.41(a)(1)(ii), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the commercial AM and the commercial ACL and ACT reductions have already been subject to notice and public comment, and all that remains is to notify the public of the updated commercial ACL and ACT for the 2024 fishing year. Prior notice and opportunity for public comment are contrary to the public interest because there is a need to immediately implement this action to protect the greater amberjack stock. Prior notice and opportunity for public comment would require time and could result in a harvest well in excess of the reduced commercial ACL and ACT.

Authority: 16 U.S.C. 1801 et seq.

Dated: November 15, 2023.
Kelly Denit,
Director, Office of Sustainable Fisheries, National Marine Fisheries Service.

[FR Doc. 2023-25658 Filed 11-20-23; 8:45 am]

BILLING CODE 3510-22-P